DEPARTMENT OF THE TREASURY

Internal Revenue Service

Open Meeting of the Taxpayer Advocacy Panel Taxpayer Assistance Center Project Committee: Correction

AGENCY: Internal Revenue Service (IRS), Treasury.

ACTION: Notice of meeting: Correction.

SUMMARY: In the Federal Register notice that was originally published on March 4, 2019, (Volume 84, Number 42, Page 7419) the meeting will be in St. Louis, MO, on Central Standard Time.

DATES: The meeting will be held Thursday, March 21, 2019 and Friday, March 22, 2019.

FOR FURTHER INFORMATION CONTACT: Matthew O'Sullivan at 1-888-912-1227 or (510) 907-5274.

SUPPLEMENTARY INFORMATION: Notice is hereby given pursuant to Section 10(a)(2) of the Federal Advisory Committee Act, 5 U.S.C. App. (1988) that an open meeting of the Taxpayer Advocacy Panel's Taxpayer Assistance Center Project Committee will be held Thursday, March 21, 2019, from 8 a.m. to 5 p.m. Central Time and Friday, March 22, 2019, from 8 a.m. until 12 p.m. Central Time, in St. Louis, MO. The public is invited to make oral comments or submit written statements for consideration. Due to limited time and structure of meeting, notification of intent to participate must be made with Matthew O'Sullivan. For more information please contact Matthew O'Sullivan at 1-888-912-1227 or (510) 907-5274, or write TAP Office, 1301 Clay Street, Oakland, CA 94612-5217 or contact us at the website: http://www.improveirs.org. The agenda will include various IRS issues.

Dated: March 6, 2019.
Kevin Brown,
Acting Director, Taxpayer Advocacy Panel.

[FR Doc. 2019-04418 Filed 3-11-19; 8:45 am]

BILLING CODE 4830-01-P